DEPARTMENT OF HOUSING AND URBAN DEVELOPMENT

[Docket No. FR-6065-C-02]

The Performance Review Board; Correction

AGENCY: Office of the Chief Human Capital Officer, HUD.

ACTION: Notice of appointments, correction.

SUMMARY: The Department of Housing and Urban Development published a notice on November 21, 2017, listing individuals appointed to serve on two Performance Review Boards. Today's notice corrects the November 21, 2017, notice by substituting Jereon M. Brown for Tawanna Preston on the senior executive Performance Review Board. For the convenience of the public, the Department is republishing the corrected notice.

FOR FURTHER INFORMATION CONTACT: Persons desiring any further information about the Performance Review Board and its members may contact Lynette Warren, Director, Office of Executive Resources, Department of Housing and Urban Development, Washington, DC 20410. Telephone (202) 708-1381. (This is not a toll-free number).

SUPPLEMENTARY INFORMATION:

The Department of Housing and Urban Development announces the establishment of two Performance Review Boards to make recommendations to the appointing authority on the performance of its senior executives. Dominique G. Blom, Towanda A. Brooks, Sarah L. Gerecke, Jean L. Pao, Jereon M. Brown, and Todd M. Richardson will serve as members of the Departmental Performance Review Board to review career SES performance. Seth D. Appleton, Matthew F. Hunter, Johnson P. Joy, Gisele G. Roget, and Bethany A. Zorc will serve as members of the Departmental Performance Review Board to review noncareer SES performance. The address is: Department of Housing and Urban Development, Washington, DC 20410-0050.

Dated: November 21, 2017.
Towanda A. Brooks,
Chief Human Capital Officer.

[FR Doc. 2017-25818 Filed 11-29-17; 8:45 am]

BILLING CODE 4210-67-P